LIBRARY OF CONGRESS

U.S. Copyright Office

[Docket No. 2014-05]

Public Draft of the Compendium of U.S. Copyright Office Practices

AGENCY: U.S. Copyright Office, Library of Congress.

ACTION: Register of Copyrights releases public draft of the Compendium of U.S. Copyright Office Practices, Third Edition.

SUMMARY: The U.S. Copyright Office (the “Office”) is announcing the release of a public draft of its administrative manual, the Compendium of U.S. Copyright Office Practices, Third Edition (the “Third Edition”). It is available on the Office's Web site at http://copyright.gov/comp3/. The Third Edition will remain in draft form for 120 days pending final review and implementation. It is expected to take effect on or around December 15, 2014.

DATES: The public draft of the Compendium of U.S. Copyright Office Practices, Third Edition is available on the Office's Web site as of August 19, 2014..

FOR FURTHER INFORMATION CONTACT: Robert Kasunic, Associate Register and Director of Registration Policy and Practice, U.S. Copyright Office, P.O. Box 70400, Washington, DC 20024-0400. Telephone (202) 707-8040.

SUPPLEMENTARY INFORMATION:

The Compendium of U.S. Copyright Office Practices is the administrative manual of the Register of Copyrights concerning the mandate and statutory duties of the Copyright Office under title 17 of the United States Code. For the first time in more than two decades, the Office is releasing a major revision of this manual titled, Compendium of U.S. Copyright Office Practices, Third Edition.

The Third Edition presents more than 1200 pages of administrative practices and sets the stage for a number of long-term improvements in the area of registration and recordation policy. While prior publications were largely internal,¹ the Third Edition is a comprehensive overhaul that makes the practices and standards of the Office more timely and transparent. It will serve as a technical manual for staff, as well as a guidebook for authors, copyright licensees, practitioners, scholars, the courts, and members of the general public. As in the past, it will address fundamental principles of copyright law—for example, standards of copyrightability, joint authorship, work for hire, and termination of transfers—as well as routine questions involving fees, records retrieval, litigation documents, and other procedural matters. Among other improvements, the Third Edition will offer the significant benefits of electronic publication. Its final format will allow for regular updates and will have a multitude of hypertext links to statutory and regulatory provisions, glossary terms, and cross-references.

¹ The first edition of the Compendium (commonly referred to as “Compendium I”) reflected the Office's general practices for registration, recordation, and other matters arising under the Copyright Act of 1909. The second edition of the Compendium (commonly referred to as “Compendium II”) reflects the Office's general practices for registration, recordation, and other matters arising under the Copyright Act of 1976, prior to the adoption of the Third Edition.

The public draft of the Third Edition may be viewed on the Office's Web site at http://copyright.gov/comp3/. It will remain in draft form for 120 days pending final review and implementation, taking effect on or around December 15, 2014.

Dated: August 12, 2014.
Jacqueline C. Charlesworth,
General Counsel and Associate Register of Copyrights.

[FR Doc. 2014-19434 Filed 8-19-14; 8:45 am]

BILLING CODE 1410-30-P